DEPARTMENT OF TRANSPORTATION

Federal Aviation Administration

Membership in the National Parks Overflights Advisory Group Aviation Rulemaking Committee

AGENCY: Federal Aviation Administration, Transportation.

ACTION: Notice.

SUMMARY: By Federal Register notice (See 81 FR 290, January 5, 2016) the National Park Service (NPS) and the Federal Aviation Administration (FAA) invited interested persons to apply to fill two upcoming openings on the National Parks Overflights Advisory Group (NPOAG) Aviation Rulemaking Committee (ARC). The notice invited interested persons to apply to fill future openings to represent air tour operator concerns and environmental interests. This notice informs the public of the person selected to fill the air tour operator future vacancy. No selection has been made for the vacancy representing environmental interests so this notice also invites persons interested in serving on the ARC to apply for the upcoming opening for this seat.

DATES: Persons interested in applying for the one upcoming NPOAG opening representing environmental interests need to apply by June 10, 2016.

FOR FURTHER INFORMATION CONTACT: Keith Lusk, Special Programs Staff, Federal Aviation Administration, Western-Pacific Region Headquarters, P.O. Box 92007, Los Angeles, CA 90009-2007, telephone: (310) 725-3808, email: Keith.Lusk@faa.gov.,

SUPPLEMENTARY INFORMATION:

Background

The National Parks Air Tour Management Act of 2000 (the Act) was enacted on April 5, 2000, as Public Law 106-181, and subsequently amended in the FAA Modernization and Reform Act of 2012. The Act required the establishment of the advisory group within one year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG ARC is made up of one member representing general aviation, three members representing the commercial air tour industry, four members representing environmental concerns, and two members representing Native American tribes. Current members of the NPOAG ARC are as follows:

Melissa Rudinger representing general aviation; Alan Stephen, Matt Zuccaro, and Mark Francis representing commercial air tour operators; Mark Belles, Nicholas Miller, Michael Sutton, and Dick Hingson representing environmental concerns; and Leigh Kuwanwisiwma and Martin Begaye representing Native American tribes. The 3-year membership terms of Mr. Francis, and Mr. Sutton expire on May 19, 2016.

Selection

The person selected to fill the upcoming open seat representing air tour operator concerns is Mark Francis. Mr. Francis is a current member and will serve another term. His 3-year term will begin on May 20, 2016. No persons expressed interest in filling the other upcoming opening to represent environmental concerns. Therefor the FAA and NPS, through this notice, are soliciting interest for the environmental opening.

The FAA and NPS invite persons interested in serving on the ARC to contact Mr. Keith Lusk (contact information is written above in FOR FURTHER INFORMATION CONTACT). Requests to serve on the ARC must be made to Mr. Lusk in writing and postmarked or emailed on or before June 10, 2016. The request should indicate whether or not you are a member of an association or group related to environmental concerns or have another affiliation with issues relating to aircraft flights over national parks. The request should also state what expertise you would bring to the NPOAG ARC as related to issues and concerns with aircraft flights over national parks. The term of service for NPOAG ARC members is 3 years. Current members may re-apply for another term.

On June 18, 2010, President Obama signed a Presidential Memorandum directing agencies in the Executive Branch not to appoint or re-appoint federally registered lobbyists to advisory committees and other boards and commissions. Therefore, before appointing an applicant to serve on the NPOAG, the FAA and NPS will require the prospective candidate to certify that they are not a federally registered lobbyist.

Issued in Hawthorne, CA on April 20, 2016.
Keith Lusk
Program Manager, Special Programs Staff, Western-Pacific Region.

[FR Doc. 2016-09690 Filed 4-25-16; 8:45 am]

BILLING CODE 4910-13-P